FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 2, 2012.

A. Federal Reserve Bank of Chicago (Colette A. Fried, Assistant Vice President) 230 South LaSalle Street, Chicago, Illinois 60690-1414:

1. The Lumpkin Family Foundation; Pinon Tree Holding Company, LLC, SKL Investment Group, LLC; Benjamin I. Lumpkin GRIT, with trustees Steven L. Grissom, all of Mattoon, Illinois; and David R. Hodgman, Evanston, Illinois; Elizabeth L. Celio GRIT, Mattoon, Illinois; with trustees Steven L. Grissom and David R. Hodgman; Richard A. Lumpkin 1970 Trust, New York, New York; Anne R. Sparks, John W. Sparks, and Zachary Whitten, all of Albuquerque, New Mexico; Benjamin I. Lumpkin, Chicago, Illinois; Elizabeth L. Celio, Oak Park, Illinois; Barbara S. Federico, Lantana, Florida; Christina S. Duncan, and Ila Duncan, both of Wilton, Connecticut; Pamela R. Keon, Elizabeth Vitale, and William Vitale, all of Mill Valley, California; Margaret DeWyngaert, Isabelle DeWyngaert, and Susan K. DeWyngaert, all of Philadelphia, Pennsylvania; Joseph J. Keon, III, Greenbrae, California; Katherine S. Keon, San Francisco, California; Margaret K. Partridge-Hicks, and Richard A. Lumpkin, both of Mattoon, Illinois; all as members of the Lumpkin family, and as trustees for other Lumpkin family trusts, as a group acting in concert; to retain control and acquire additional voting shares of First Mid-Illinois Bancshares, Inc., and thereby indirectly retain control and acquire additional voting shares of First Mid-Illinois Bank & Trust, National Association, both in Mattoon, Illinois.

Board of Governors of the Federal Reserve System, April 12, 2012.
Robert deV. Frierson,
Deputy Secretary of the Board.

[FR Doc. 2012-9157 Filed 4-16-12; 8:45 am]

BILLING CODE 6210-01-P